ENVIRONMENTAL PROTECTION AGENCY

[EPA-HQ-OPPT-2019-0236; FRL-10003-71]

N-Methylpyrrolidone (NMP); Draft Toxic Substances Control Act (TSCA) Risk Evaluation; Notice of Availability; Extension of Comment Period

AGENCY: Environmental Protection Agency (EPA).

ACTION: Notice; extension of comment period.

SUMMARY: EPA issued a notice in the Federal Register of November 7, 2019, announcing the availability of and soliciting public comment on the draft Toxic Substances Control Act (TSCA) risk evaluation of N-Methylpyrrolidone (NMP). This document extends the comment period for 2 weeks, from January 6, 2020 to January 21, 2020.

DATES: Comments, identified by docket identification (ID) number EPA-HQ-OPPT-2019-0236, must be received on or before January 21, 2020.

ADDRESSES: Follow the detailed instructions provided under ADDRESSES in the Federal Register document of November 7, 2019 (84 FR 60087) (FRL-10001-87).

FOR FURTHER INFORMATION CONTACT: For technical information contact: Dr. Stan Barone, Office of Pollution Prevention and Toxics (7403M), Environmental Protection Agency, 1200 Pennsylvania Ave. NW, Washington, DC 20460-0001; telephone number: (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of November 7, 2019 (84 FR 60087) (FRL-10001-87). In that document, EPA announced the availability of and solicited public comment on the draft Toxic Substances Control Act (TSCA) risk evaluation of N-Methylpyrrolidone (NMP). The purpose of the risk evaluation process under TSCA is to determine, upon issuance of a final risk evaluation, whether a chemical substance presents an unreasonable risk of injury to health or the environment under the conditions of use, including an unreasonable risk to a relevant potentially exposed or susceptible subpopulation. EPA is hereby extending the comment period in response to several requests for additional time.

To submit comments, or access the docket, please follow the detailed instructions provided under ADDRESSES in the Federal Register document of November 7, 2019. If you have questions, consult the technical person listed under FOR FURTHER INFORMATION CONTACT.

Authority: 15 U.S.C. 2601 et seq.

Dated: December 18, 2019.
Alexandra Dapolito Dunn,
Assistant Administrator, Office of Chemical Safety and Pollution Prevention.

[FR Doc. 2019-28334 Filed 1-2-20; 8:45 am]

BILLING CODE 6560-50-P